DEPARTMENT OF TRANSPORTATION

Federal Railroad Administration

49 CFR Part 271

[Docket No. FRA-2009-0038]

RIN 2130-AC11

Risk Reduction Program

AGENCY: Federal Railroad Administration (FRA), Department of Transportation (DOT).

ACTION: Proposed rule; notice of comment period reopening.

SUMMARY: On February 27, 2015, FRA published a Notice of Proposed Rulemaking (NPRM) that would require certain railroads to develop a Risk Reduction Program (RRP). On September 29, 2015, the RRP Working Group of the Railroad Safety Advisory Committee (RSAC) held a meeting to review and discuss comments received in response to both the NPRM and an August 27, 2015, public hearing on the NPRM. FRA is reopening the comment period for this proceeding to allow interested parties to submit written comments in response to views or information provided at the RRP Working Group meeting.

DATES: The comment period for this proceeding, consisting of the proposed rule published February 27, 2015, at 80 FR 10950, the August 27, 2015, hearing, announced at 80 FR 45500, July 30, 2015, and a prior notice of comment period reopening, announced at 80 FR 55285, September 15, 2015, is reopened. Written comments must be received by October 21, 2015. Comments received after that date will be considered to the extent possible without incurring additional expense or delay.

ADDRESSES: Written comments: Written comments related to Docket No. FRA-2009-0038 may be submitted by any of the following methods:

• Web site: The Federal eRulemaking Portal, http://www.regulations.gov. Follow the Web site's online instructions for submitting comments.

• Fax: 202-493-2251.

• Mail: Docket Management Facility, U.S. Department of Transportation, 1200 New Jersey Avenue SE., Room W12-140, Washington, DC 20590.

• Hand Delivery: Docket Management Facility, U.S. Department of Transportation, 1200 New Jersey Avenue SE., Washington, DC 20590, Room W12-140 on the Ground level of the West Building, between 9 a.m. and 5 p.m., Monday through Friday, except Federal Holidays.

Instructions: All submissions must include the agency name, docket name, and docket number or Regulatory Identification Number (RIN) for this rulemaking. Note that all comments received will be posted without change to http://www.regulations.gov, including any personal information provided. Please see the Privacy Act heading in the SUPPLEMENTARY INFORMATION section of this document for Privacy Act information related to any submitted comments or materials.

Docket: For access to the docket to read background documents or comments received, go to http://www.regulations.gov at any time or to the Docket Management Facility, U.S. Department of Transportation, 1200 New Jersey Avenue SE., Washington, DC, Room W-12-140 on the Ground level of the West Building, between 9 a.m. and 5 p.m., Monday through Friday, except Federal Holidays.

FOR FURTHER INFORMATION CONTACT: Miriam Kloeppel, Staff Director, Risk Reduction Program Division, Office of Safety Analysis, FRA, 1200 New Jersey Avenue SE., Mail Stop 25, Washington, DC 20590, (202) 493-6224, Miriam.Kloeppel@dot.gov; or Elizabeth Gross, Trial Attorney, Office of Chief Counsel, FRA, 1200 New Jersey Avenue SE., Mail Stop 10, Washington, DC 20590, (202) 493-1342, Elizabeth.Gross@dot.gov.

SUPPLEMENTARY INFORMATION: The Rail Safety Improvement Act of 2008 (RSIA) requires the development and implementation of railroad safety risk reduction programs. Risk reduction is a comprehensive, system-oriented approach to safety that (1) determines an operation's level of risk by identifying and analyzing applicable hazards and (2) involves the development of acctions to mitigate that risk. Each RRP is statutorily required to be supported by a risk analysis and an RRP Plan, which must include a Technology Implementation Plan and a Fatigue Management Plan. On February 27, 2015, FRA published an NPRM that would require certain railroads to develop an RRP. FRA also held a public hearing on August 27, 2015, to provide interested persons an opportunity to provide oral comments on the proposal. See 80 FR 10950, Feb. 27, 2015 and 80 FR 45500, Jul. 30, 2015.

On September 29, 2015, the RSAC's RRP Working Group held a meeting to review and discuss comments received in response to both the NPRM and the public hearing. FRA established RSAC as a collaborative forum to provide advice and recommendations to FRA on railroad safety matters. The RSAC includes representatives from all of the agency's major stakeholder groups, representing various railroad industry perspectives. See the RSAC Web site for details on prior RSAC activities and pending tasks at http://rsac.fra.dot.gov/. Please refer to the notice published in the Federal Register on March 11, 1996 (61 FR 9740), for additional information about the RSAC.

FRA is reopening the comment period for this proceeding to allow interested parties to submit written comments in response to views or information provided at the RRP Working Group meeting on September 29, 2015. Written comments must be received by October 21, 2015. Comments received after that date will be considered to the extent possible without incurring additional expense or delay.

Privacy Act Statement

Consistent with 5 U.S.C. 553(c), DOT solicits comments from the public to better inform its rulemaking process. DOT posts these comments, without edit, including any personal information the commenter provides to www.regulations.gov, as described in the system of records notice (DOT/ALL-14 FDMS), which can be reviewed at www.dot.gov/privacy.

Issued in Washington, DC.
Robert C. Lauby,
Associate Administrator for Railroad Safety, Chief Safety Officer.

[FR Doc. 2015-25461 Filed 10-6-15; 8:45 am]

BILLING CODE 4910-06-P